DEPARTMENT OF COMMERCE

National Oceanic and Atmospheric Administration

[I.D. 022807D]

Marine Mammals; File Nos. 605-1607 and 605-1904

AGENCY: National Marine Fisheries Service (NMFS), National Oceanic and Atmospheric Administration (NOAA), Commerce.

ACTION: Notice; withdrawal of amendment request; receipt of application.

SUMMARY: Notice is hereby given that Whale Center of New England (Mason Weinrich, Principal Investigator), P.O. Box 159, Gloucester, MA 01930 has withdrawn a request to amend Permit No. 605-1607-02 and has applied in due form for a new permit (File No. 605-1904) to conduct research on humpback (Megaptera novaeangliae), fin (Balaenoptera physalus), and sei (Balaenoptera borealis) whales.

DATES: Written, telefaxed, or e-mail comments must be received on or before April 6, 2007.

ADDRESSES: The application and related documents are available for review upon written request or by appointment in the following office(s):

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Avenue South, Saint Petersburg, Florida 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 605-1904.

FOR FURTHER INFORMATION CONTACT: Amy Hapeman or Jaclyn Daly, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The Whale Center of New England requests a 5-year scientific research permit to continue population monitoring of humpback, fin, and sei whales in North Atlantic waters of the northeastern and mid-Atlantic U.S. Research would help determine baleen whale population status and trends, assess prey availability and whale-prey interactions, and help develop a technique to age whales from biopsy samples. The applicant is requesting to harass 400 humpback, 250 fin, and 100 sei whales by close approach for vessel surveys and photo-identification annually. The applicant also requests to biopsy sample 75 humpback and 75 fin whales annually, up to 20 of which for each species may be young calves. The applicant also requests to suction-cup tag 40 humpback, 20 fin, and 25 sei whales greater than six months of age annually. With this new permit application, the request for an amendment to Permit No. 605-1607-02, published on April 7, 2004 (69 FR 18357), has been withdrawn.

Concurrent with the publication of this notice in the Federal Register, NMFS is forwarding copies of this application to the Marine Mammal Commission and its Committee of Scientific Advisors.

Dated: February 28, 2007.
Tammy C. Adams,
Acting Chief, Permits, Conservation and Education Division, Office of Protected Resources, National Marine Fisheries Service.

[FR Doc. E7-3900 Filed 3-6-07; 8:45 am]

BILLING CODE 3510-22-S